DEPARTMENT OF ENERGY

Notice of Public Meeting To Summarize Public Input Received on the Design of a Consent-Based Siting Process for Spent Nuclear Fuel and High-Level Radioactive Waste Storage and Disposal Facilities

AGENCY: Fuel Cycle Technologies, Office of Nuclear Energy, Department of Energy.

ACTION: Notice of public meeting.

SUMMARY: The U.S. Department of Energy (DOE) is designing a consent-based process for siting facilities that will be a part of an integrated waste management system to transport, store, and dispose of spent nuclear fuel and high-level radioactive waste. As part of this process, the Department issued an Invitation for Public Comment in the Federal Register on December 23, 2015 and hosted eight public meetings across the United States in 2016 to get public input on the elements that should be considered in the development of a consent-based siting process. At the September 15, 2016 meeting, the Department will summarize the comments received and discuss next steps in designing a consent-based siting process. The entire meeting will be broadcast live via webstream at http://consentbasedsitingwebcast.azureWebsites.net.

DATES: The meeting will take place on Thursday September 15, 2016 from 2:00-4:00 p.m. Eastern Daylight Time. Department officials will be available to discuss consent-based siting during an informal open house 30 minutes before and after the formal meeting.

ADDRESSES: The meeting will be held at the Embassy Suites by Hilton Washington DC Convention Center, 900 10th St NW., Washington, DC 20001. To register for this meeting and to review the agenda for this meeting, please visit energy.gov/consentbasedsiting.

FOR FURTHER INFORMATION CONTACT: Requests for further information should be sent to consentbasedsiting@hq.doe.gov or to Michael Reim at 202-586-2981. Updated information including registration links and meeting information will be posted at energy.gov/consentbasedsiting.

Privacy Act/Publishing of Personally Identifiable Information: Data collected via the mechanisms listed above will not be protected from the public view in any way. Individual commentors' names and addresses (including email addresses) received as part of oral presentations at the public meeting will be included in the transcript of the public meeting will be published at energy.gov/consentbasedsiting.

Issued in Washington, DC on August 23, 2016.
Andrew Griffith,
Associate Deputy Assistant Secretary for Fuel Cycle Technologies, Office of Nuclear Energy, Department of Energy.

[FR Doc. 2016-21071 Filed 8-31-16; 8:45 am]

BILLING CODE 6450-01-P